DEPARTMENT OF DEFENSE

Office of the Secretary

Defense Health Board; Notice of Federal Advisory Committee Meeting

AGENCY: Under Secretary of Defense for Personnel and Readiness, Department of Defense (DoD).

ACTION: Notice of federal advisory committee meeting.

SUMMARY: The DoD is publishing this notice to announce that the following Federal Advisory Committee meeting of the Defense Health Board (“DHB”) will take place.

DATES: Open to the public Wednesday, March 30, 2022 from 12:00 p.m. to 4:00 p.m. Eastern time.

ADDRESSES: The meeting will be held by videoconference/teleconference. To participate in the meeting, see the Meeting Accessibility section for instructions.

FOR FURTHER INFORMATION CONTACT: CAPT Gregory H. Gorman, U.S. Navy, 703-275-6060 (voice), gregory.h.gorman.mil@mail.mil (email). Mailing address is 7700 Arlington Boulevard, Suite 5101, Falls Church, Virginia 22042. Website: http://www.health.mil/dhb. The most up-to-date changes to the meeting agenda can be found on the website.

SUPPLEMENTARY INFORMATION: Due to circumstances beyond the control of the Department of Defense and the Designated Federal Officer, the Defense Health Board was unable to provide public notification required by 41 CFR 102-3.150(a) concerning its March 30, 2022 meeting of the Defense Health Board. Accordingly, the Advisory Committee Management Officer for the Department of Defense, pursuant to 41 CFR 102(b), waives the 15-calendar day notification requirement.

This meeting is being held under the provisions of the Federal Advisory Committee Act (FACA) (5 U.S.C.), the Government in the Sunshine Act of 1976 (5 U.S.C. 552b), and 41 CFR 102-3.140 and 102-3.150.

Availability of Materials for the Meeting: Additional information, including the agenda, is available at the DHB website, http://www.health.mil/dhb. A copy of the agenda or any updates to the agenda for the March 30, 2022, meeting will be available on the DHB website. Any other materials presented in the meeting may be obtained at the meeting.

Purpose of the Meeting: The DHB provides independent advice and recommendations to maximize the safety and quality of, as well as access to, health care for DoD health care beneficiaries. The purpose of the meeting is to provide briefings to DHB members on current issues related to military medicine and upcoming DHB taskings.

Agenda: The DHB meeting will be called to order and begin with both opening and administrative remarks at noon. At 12:30 p.m., the discussion will move to mental health care access and recess at 1:30 p.m. for a 15 minute break. At 1:45 p.m., the DHB will discuss racial and ethnic health care disparities and then at 2:45 p.m. conclude with a discussion on virtual health in the Military Health System. After closing remarks at 3:45 p.m., the meeting will adjourn at 4:00 p.m. Any changes to the agenda can be found at the link provided in this notice.

Meeting Accessibility: Pursuant to 5 U.S.C. 552b and 41 CFR 102-3.140 through 102-3.165, this meeting is open to the public from 12:00 p.m. to 4:00 p.m. on March 30, 2022. The meeting will be held by videoconference/teleconference. The number of participants is limited and is on a first-come basis. All members of the public who wish to participate must register by emailing their name, rank/title, and organization/company to dha.ncr.dhb.mbx.defense-health-board@mail.mil or by contacting Ms. Pamela Shell at (703) 275-6012 no later than Monday, March 28, 2022. Once registered, the web address and audio number will be provided.

Special Accommodations: Individuals requiring special accommodations to access the public meeting should contact Ms. Pamela Shell so that appropriate arrangements can be made.

Written Comments and Statements: Any member of the public wishing to provide comments to the DHB related to its current taskings or mission may do so at any time in accordance with section 10(a)(3) of the FACA, 41 CFR 102-3.105(j) and 102-3.140, and the procedures described in this notice. Written statements may be submitted to the DHB's Designated Federal Officer (DFO), Captain Gorman, at gregory.h.gorman.mil@mail.mil. Supporting documentation may also be included, to establish the appropriate historical context and to provide any necessary background information. If the written statement is not received at least five (5) business days prior to the meeting, the DFO may choose to postpone consideration of the statement until the next open meeting. The DFO will review all timely submissions with the DHB President and ensure they are provided to members of the DHB before the meeting that is subject to this notice. After reviewing the written comments, the President and the DFO may choose to invite the submitter to orally present their issue during an open portion of this meeting or at a future meeting.

Dated: March 22, 2022.
Kayyonne T. Marston,
Alternate OSD Federal Register, Liaison Officer Department of Defense.

[FR Doc. 2022-06325 Filed 3-24-22; 8:45 am]

BILLING CODE 5001-06-P